DEPARTMENT OF TRANSPORTATION

Federal Railroad Administration

[Docket Number FRA-2016-0063]

Petition for Waiver of Compliance

Under Part 211 of Title 49 of the Code of Federal Regulations (CFR), this provides the public notice that on May 20, 2016, the Strasburg Railroad Company (SRC) petitioned the Federal Railroad Administration (FRA) for a waiver of compliance from certain provisions of the Federal railroad safety regulations contained at 49 CFR 222.21. FRA assigned the petition docket number FRA-2016-0063.

Specifically, SRC seeks a waiver from 49 CFR 222.21, When must a locomotive horn be used? so that the locomotive horn is not sounded when approaching a public highway-rail grade crossing while passing livestock near the train if the crossing is observed to be clear and the crossing protection is activated. SRC's historic, excursion, and switching operations are conducted on Class 2 main track located in Amish farmland where horse and mule teams are used for farming and transportation. SRC's main track has four public highway crossings, all protected by gates and flashers. All crossings are two lane roads that are not heavily trafficked by motor vehicles.

SRC requests this relief to avoid causing incidents and injuries involving Amish animal teams, equipment, and people as the animals may be startled by the train whistle or bell. Most of the Amish animals are accustomed to the steam locomotives and railroad equipment; but animals are unpredictable and may be spooked by the train, particularly the sounding of the whistle and bell. SRC has observed incidents with animal teams because the animals were startled by the whistle and/or bell of the locomotive, resulting in damage and injury to the animals, occupants of the carriages, the carriages, and crossing gate mechanisms.

Since 1958, it has been common practice for SRC crews to refrain from blowing the whistle or ringing the bell when they see a team nearby, including when the train is occupying highway-rail grade crossings. Determination of the status of the crossing protection, location of the team, and status of motor vehicles are all considered by an SRC crew when deciding whether to occupy a crossing without using the bell or whistle. There have been no incidents at crossings as a result of not blowing the whistle or ringing the bell.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by September 25, 2017 will be considered by FRA before final action is taken. Comments received after that date will be considered as far as practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-16796 Filed 8-8-17; 8:45 am]

BILLING CODE 4910-06-P